DEPARTMENT OF AGRICULTURE

Agricultural Marketing Service

[No. TM-04-03]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are: Wednesday, April 28, 2004, 8 a.m. to 5 p.m., Thursday, April 29, 2004, 8 a.m. to 5 p.m., and Friday, April 30, 2004, 8 a.m. to 12 p.m. Requests from individuals and organizations wishing to make an oral presentation at the meeting are due by the close of business on April 12, 2004.

ADDRESSES: The meeting will take place at the Best Western Inn of Chicago, The Buckingham Room, 162 East Ohio Street, Chicago, Illinois. Requests for copies of the NOSB meeting agenda, requests to make an oral presentation at the meeting, or written comments may be sent to Ms. Katherine Benham, Advisory Board Specialist at USDA-AMS-TMD-NOP, 1400 Independence Avenue, SW., Room 4008-So., Ag Stop 0268, Washington, DC 20250-0200. Requests to make an oral presentation at the meeting may also be sent via facsimile to Ms. Katherine Benham at (202) 205-7808 or electronically to Ms. Katherine Benham at katherine.benham@usda.gov.

FOR FURTHER INFORMATION CONTACT: Richard Mathews, Program Manager, National Organic Program, (202) 720-3252.

SUPPLEMENTARY INFORMATION: Section 2119 (7 U.S.C. 6518) of the Organic Foods Production Act of 1990 (OFPA), as amended (7 U.S.C. 6501 et seq.) requires the establishment of the NOSB. The purpose of the NOSB is to make recommendations about whether a substance should be allowed or prohibited in organic production or handling, to assist in the development of standards for substances to be used in organic production and to advise the Secretary on other aspects of the implementation of the OFPA.

The NOSB met for the first time in Washington, DC, in March 1992, and currently has six committees working on various aspects of the organic program. The committees are: Compliance, Accreditation, and Certification; Crops; Livestock; Materials; Handling; and Policy Development.

In August of 1994, the NOSB provided its initial recommendations for the National Organic Program (NOP) to the Secretary of Agriculture. Since that time, the NOSB has submitted 50 addenda to its recommendations and reviewed more than 256 substances for inclusion on the National List of Allowed and Prohibited Substances. The last meeting of the NOSB was held on October 22-24, 2003, in Washington, DC.

The Department of Agriculture (USDA) published its final National Organic Program regulation in the Federal Register on December 21, 2000 (65 FR 80548). The rule became effective April 21, 2001.

The principal purposes of the meeting are to provide an opportunity for the NOSB to receive an update from the USDA/NOP and to hear a presentation on the ECert Program, receive various committee reports, receive reports from the 606 Task Force and Compost Tea Task Force, and review materials to determine if they should be included on the National List of Allowed and Prohibited Substances.

The Materials Committee will explain the materials review process and provide an update on the sunset review of materials. OFPA provides that materials on the National List will sunset unless their exemption or prohibition is reviewed and renewed within 5 years. All but those materials added during 2003 are scheduled to sunset on October 21, 2007. The Materials Committee will also present for NOSB consideration eight materials for possible inclusion on the National List of Allowed and Prohibited Substances. The Accreditation, Certification and Compliance Committee will present for NOSB consideration its recommendations regarding compliance procedures. Specifically, the committee will recommend definitions for “minor noncompliance,” “noncompliance,” and “organic integrity” along with noncompliance notification procedures and examples of noncompliance as guidance to Accredited Certifying Agents. The Handling Committee will provide an update on their work on the issue of food contact substances. Finally, the Policy Development Committee will present for NOSB consideration revisions to the NOSB policy manual and its recommendation on the factors and constraints to be used in determining a substance's compatibility with a system of sustainable agriculture and its consistency with organic farming and handling.

Materials to be review at the meeting by the NOSB are as follows: for Crop Production: Soy Protein Isolate, 6 Benzyladenine, Urea, and Hydrogen Chloride; for Handling: Nitrous Oxide, and Tetrasodium Pyrophosphate (TSPP); and for Livestock Production: Moxidectin and Proteinated Chelates.

For further information, see http://www.ams.usda.gov/nop. Copies of the NOSB meeting agenda can be requested from Ms. Katherine Benham by telephone at (202) 205-7806; or by accessing the NOP Web site at http://www.ams.usda.gov/nop.

The meeting is open to the public. The NOSB has scheduled time for public input on Wednesday, April 28, 2004, 8:30 a.m. to 11:30 a.m.; and Friday, April 30, 2004, 8 a.m. to 9:45 a.m. Individuals and organizations wishing to make an oral presentation at the meeting may forward their request by mail, facsimile, or e-mail to Ms. Katherine Benham at addresses listed in ADDRESSES above. While persons wishing to make a presentation may sign up at the door, advance registration will ensure that a person has the opportunity to speak during the allotted time period and will help the NOSB to better manage the meeting and to accomplish its agenda. Individuals or organizations will be given approximately 5 minutes to present their views. All persons making an oral presentation are requested to provide their comments in writing. Written submissions may contain information other than that presented at the oral presentation.

Written comments may also be submitted at the meeting. Persons submitting written comments at the meeting are asked to provide 30 copies.

Interested persons may visit the NOSB portion of the NOP Web site http://www.ams.usda.gov/nop to view available documents prior to the meeting. Approximately 6 weeks following the meeting interested persons will be able to visit the NOSB portion of the NOP Web site to view documents from the meeting.

Dated: March 31, 2004.
A. J. Yates,
Administrator, Agricultural Marketing Service.

[FR Doc. 04-7679 Filed 4-5-04; 8:45 am]

BILLING CODE 3410-02-P